DEPARTMENT OF HEALTH AND HUMAN SERVICES

National Institutes of Health

Submission for OMB Review; Comment Request; Ethical Problems Encountered by Registered Nurses and Social Workers: Implications for Job Satisfaction and Retention

SUMMARY: Under the provisions of section 3507(a)(1)(D) of the Paperwork Reduction Act of 1995, the National Institutes of Health (NIH) has submitted to the Office of Management and Budget (OMB) a request to review and approve the information collected listed below. This proposed information collection was previously published in the Federal Register on January 16, 2003, page 2341 and allowed 60 days for public comment. Public comments were received. The purpose of this notice is to allow an additional 30 days for public comment. The National Institutes of Health may not conduct or sponsor, and the respondent is not required to respond to, an information collection that has been extended, revised, or implemented on or after October 1, 1995, unless it displays a currently valid OMB control number.

Proposed Collection

Title: The Ethical Problems Encountered by Nurses and Social Workers: Implications for Job Satisfaction and Retention.

Type of Information Collection Request: New.

Need and Use of Information Collected: The purposes of the study are (1) To identify common ethical problems experienced by nurses and social workers in health care settings; (2) to identify the relationships between selected individual and organizational factors and perceptions of ethics stress, job satisfaction, and retention; and (3) to identify the availability of ethics support services. The findings will provide valuable information concerning: (1) The extent to which ethical problems and stress are contributing to a shortage of health care providers; (2) the importance of ethics related content in nurses' and social workers' education; and (3) the importance of ethics support services.

Frequency of Response: Once.

Affected Public: Individuals; Academic Institutions; Business or for-profit; Not-for-profit organizations.

Type of Respondents: Registered Nurses and Social Workers. The annual reporting burden is as follows:

Estimated Number of Respondents: 3000;

Estimated Number of Responses per Respondent: 1;

Average Burden Hours Per Response: .33; and

Estimated Total Annual Burden Hours Requested: 990.

The annualized cost to respondents is estimated at: $75,000. There are not Capital Costs to report. There are no Operating or Maintenance Costs to report.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Connie Ulrich, RN, PhD., Principal Investigator, Department of Clinical Bioethics, Warrent G. Magnuson Clinical Center, Building 10, Room 1C118, Bethesda, MD 20892, or call non-toll-free number (301) 451-8338 or E-mail your request, including your address to culrich@cc.nih.gov.

Requested for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Comments Due Date: Comments regarding this information collection are best assured of having their full effect if received within 30 days of the date of this publication.

Dated: May 12, 2003.
David K. Henderson
Deputy Director, Warrent G. Magnuson Clinical Center, National Institutes of Health.
Ezekiel J. Emanual
Director, Department of Clinical Bioethics, Warren G. Magnuson Clinical Center, National Institutes of Health.

[FR Doc. 03-12663 Filed 5-19-03; 8:45 am]

BILLING CODE 4140-01-M